DEPARTMENT OF LABOR

Employment and Training Administration

[TA-W-37,553]

Swank, Inc., Attleboro, Massachusetts; Notice of Termination of Investigation

Pursuant to section 221 of the Trade Act of 1974, an investigation was initiated on April 10, 2000, in response to a petition filed on the same date on behalf of workers at Swank, Inc., Attleboro, Massachusetts.

The petitioning group of workers are covered by an existing certification issued on April 30, 2000 (TA-W-37,531). Consequently, further investigation in this case would serve no purpose, and this investigation has been terminated.

Signed in Washington, DC, this 5th day of May, 2000.
Grant D. Beale,
Program Manager, Division of Trade Adjustment Assistance.

[FR Doc. 00-12509 Filed 5-17-00; 8:45 am]

BILLING CODE 4510-30-M